DEPARTMENT OF TRANSPORTATION

Federal Highway Administration

Rescinding the Notice of Intent for an Environmental Impact Statement (EIS): Lancaster County, Pennsylvania

AGENCY: Federal Highway Administration (FHWA), DOT.

ACTION: Rescind Notice of Intent to prepare an EIS.

SUMMARY: This notice rescinds the Notice of Intent for preparing an Environmental Impact Statement (EIS) for a proposed highway in Lancaster County, Pennsylvania. The project study area includes SR 30 Section S01 (US 30) corridor in East Lampeter Township, Salisbury Township, Leacock Township, and Paradise Township, Lancaster County, Pennsylvania. The original Notice of Intent for this EIS process was published in the Federal Register on January 22, 2002.

FOR FURTHER INFORMATION CONTACT: Dan Walston, Transportation Planning Specialist, Federal Highway Administration, Pennsylvania Division, 228 Walnut Street, Room 508, Harrisburg, Pennsylvania 17101-1720, Telephone: (717) 221-2290 (email: Christopher.Walston@dot.gov,) or Mike Lapano, Project Manager, Pennsylvania Department of Transportation, 2140 Herr Street, Harrisburg, Pennsylvania 17101-1720, Telephone: 717-787-7482 (email: mlapano@pa.gov.)

SUPPLEMENTARY INFORMATION: The Federal Highway Administration (FHWA) in cooperation with the Pennsylvania Department of Transportation (PennDOT) and the Lancaster County Planning Commission initiated an Environmental Impact Statement (EIS) with a Notice of Intent, January 22, 2002, to identify and evaluate alternatives to address transportation problems within the SR 30 Section S01 corridor. The proposed project study area runs approximately from the PA 896/U.S. 30 intersection on the west and the PA 897/U.S. 30 intersection on the east, including the intersection with PA 41. Notices of Intent concerning this proposal were previously published in the Federal Register. The original Notice of Intent published on February 27, 1987 described a two-phase approach to identify and evaluate alternatives that would provide a variable means of relieving traffic congestion on Traffic Route (T.R.) 23 and US 30 in Eastern Lancaster County, Pennsylvania. A revised Notice of Intent published on June 16, 1988 announced the separate Environmental Impact Statements to evaluate alternatives for the two projects would be prepared.

Improvements for this corridor were considered necessary to provide for the existing and project traffic demand. A needs study was undertaken and a range of transportation alternatives, including but not limited to No-Build, Transportation Systems Management (TSM), widening the existing three-lane highways to five lanes, bypasses around communities, and constructing a four-lane limited access highway on new location were considered. These alternatives were developed consistently with land use strategies to address the identified transportation needs. The developments of alternatives were based on traffic demands, engineering requirements, environmental and socioeconomic constraints, the county's growth management plan, and public input. Public involvement and inter-agency coordination were maintained throughout the development of the EIS.

Due to funding constraints the Notice of Intent is rescinded.

Issued on: June 30, 2014.
Renee Sigel,
Division Administrator, Federal Highway Administration.

[FR Doc. 2014-16135 Filed 7-9-14; 8:45 am]

BILLING CODE P